SMALL BUSINESS ADMINISTRATION

Small Business Size Standards: Waiver of the Nonmanufacturer Rule

AGENCY: U.S. Small Business Administration.

ACTION: Notice of intent to waive the Nonmanufacturer Rule for Water Treatment Chemicals.

SUMMARY: The U.S. Small Business Administration (SBA) is considering granting a waiver of the Nonmanufacturer Rule for Water Treatment Chemicals. The basis for waivers is that no small business manufacturers are supplying these classes of products to the Federal government. The effect of a waiver would be to allow otherwise qualified regular dealers to supply the products of any domestic manufacturer on a Federal contract set aside for small businesses, service-disabled veteran-owned small businesses or SBA's 8(a) Business Development Program. The purpose of this notice is to solicit comments and potential source information from interested parties.

DATES: Comments and source information must be submitted on or before February 3, 2006.

ADDRESSES: You may submit comments and source information to Edith Butler, Program Analyst, U.S. Small Business Administration, Office of Government Contracting, 409 3rd Street, SW., Suite 8800, Washington, DC 20416.

FOR FURTHER INFORMATION CONTACT: Edith Butler, Program Analyst, by telephone at (202) 619-0422; by FAX at 481-1788; or by e-mail at edith.butler@sba.gov.

SUPPLEMENTARY INFORMATION: Section 8(a)(17) of the Small Business Act (Act), 15 U.S.C. 637(a)(17), requires that recipients of Federal contracts set aside for small businesses, service-disabled veteran-owned small businesses, or SBA's 8(a) Business Development Program provide the product of a small business manufacturer or processor, if the recipient is other than the actual manufacturer or processor. This requirement is commonly referred to as the Nonmanufacturer Rule.

The SBA regulations imposing this requirement are found at 13 CFR 121.406(b). Section 8(a)(17)(b)(iv) of the Act authorizes SBA to waive the Nonmanufacturer Rule for any “class of products” for which there are no small business manufacturers or processors in the Federal market.

As implemented in SBA's regulations at 13 CFR 121.1202(c), in order to be considered available to participate in the Federal market for a class of products, a small business manufacturer must have submitted a proposal for a contract solicitation or received a contract from the Federal government within the last 24 months. The SBA defines “class of products” based on six-digit coding systems. The first coding system is the Office of Management and Budget North American Industry Classification System (NAICS).

The SBA is currently processing a request to waive the Nonmanufacturer Rule for Water Treatment Chemicals, North American Industry Classification System (NAICS) 325188, and 325199. The public is invited to comment or provide source information to SBA on the proposed waiver of the Nonmanufacturer Rule for these NAICS codes.

Dated: January 9, 2006.
Karen C. Hontz,
Associate Administrator for Government Contracting.

Attachment A: Product Listing

SIN 524-2 FUEL OIL TREATMENT CHEMICALS

FuelSolv FS915

FuelSolv FS916

FuelSolv FS917

FuelSolv MGP3275

FuelSolv OMG8500

FuelSolv PB901

SIN 524-2 BOILER TREATMENT CHEMICALS

Aquamax IEC2

Aquamax IEC800

CorTrol IS100

CorTrol IS102

CorTrol IS103

CorTrol IS104

CorTrol IS3000

CorTrol OS131

CorTrol OS133

CorTrol OS5300

CorTrol OS7780

OptiGuard MCA624

RediFeed OptiGuard MCA630

OptiGuard MCM610

RediFeed OptiGuard MCM955

OptiGuard MCP600

OptiGuard MCP601

RediFeed OptiGuard MCP953

Optisperse ADJ560

Optisperse ADJ561

Optisperse APO200

Optisperse APO520

Optisperse AP301

Optisperse AP302

Optisperse CL361

Optisperse CL362

Optisperse CL363

Optisperse CPS500

Optisperse CPS501

Optisperse CPS502

Optisperse CPS503

Optisperse CPS504

Optisperse PO400

Optisperse PO423

Optisperse PO424

Optisperse SP530

Optisperse SP531

Optisperse SP532

Steamate FM760

Steamate FM761

Steamate FM1000

Steamate NA0240

Steamate NA0540

Steamate NA2140

Steamate NA2260

Steamate NA700

Steamate NA701

Steamate NA720

Steamate NA703

Steamate NA707

Steamate NA711

Steamate NA713

Steamate NA715

SIN 524-2 COOLING WATER TREATMENT CHEMICALS

Continuum AEC213

Continuum AEC216

Continuum AEC217

Continuum AEC218

Continuum AEC223

Continuum AEC225

Continuum AEC230

Continuum AEC231

Continuum AEC232

Continuum AT201

Continuum AT202

Continuum AT203

Continuum AT205

Continuum AT209

Continuum AT220

Depositrol PY505

Depositrol PY5200

Depositrol SF502

Depositrol SF504

Dianodic DN300

Dianodic DN302

Dianodic DN310

Ferroquest LP7200

Ferroquest LP7202

FloGard POT802

FloGard POT807

FoamTrol AF2290

FoamTrol AF706

FoamTrol AF724

FoamTrol AF1440

Inhibitor AZ604

Inhibitor AZ660

Inhibitor AZ8101

Inhibitor PM508

Inhibitor PM608

Inhibitor PM609

Inhibitor PM610

Kleen AC9507

RediFeed Continuum AT901

RediFeed Continuum AT902

RediFeed Spectrus OX903

Spectrus BD152

Spectrus BD1550

Spectrus NX102

Spectrus NX104

Spectrus NX106

Spectrus NX108

Spectrus NX110

Spectrus NX1104

Spectrus NX112

Spectrus NX114

Spectrus NX122

Spectrus OX101

Spectrus OX103

Spectrus OX105

Spectrus OX903

Spectrus OX909

Spectrus OX1201

Spectrus OX1240

SIN 524-2 CLOSED SYSTEM TREATMENT CHEMICALS

Corrshield MD400

Corrshield MD407

Corrshield NT402

Corrshield NT403

Corrshield NT411

Corrshield OR404

Ferroquest FQ7101

Ferroquest FQ7102

Ferroquest FQ7103

SIN 524-2 MULTI FUNCTION PRODUCTS

AE 1128P

BioPlus BA900

BioPlus BA2920

BioPlus BA2921

Pot 804

KlarAid CDP 1339P

KlarAid IC 1172P

KlarAid PC 1192P

KlarAid PC 1195P

PolyFloc AE 1115

PolyFloc AP 1100

PolyFloc AP 1120P

ProSweet OC2532

ProSweet OC2533

ProSweet OC2534

ProSweet OC2543

[FR Doc. E6-440 Filed 1-17-06; 8:45 am]

BILLING CODE 8025-01-P